DEPARTMENT OF LABOR

Employment and Training Administration

[TA-W-70,066]

Emerson Network Power, Embedded Computing, Including On-Site Leased Workers From Manpower, et al.; Tempe, AZ; Amended Certification Regarding Eligibility To Apply for Worker Adjustment Assistance

In accordance with Section 223 of the Trade Act of 1974, as amended (“Act”), 19 U.S.C. 2273, the Department of Labor issued a Certification of Eligibility to Apply for Worker Adjustment Assistance on August 5, 2009, applicable to workers of Emerson Network Power, Embedded Computing, including on-site leased workers from Manpower, QTI and ACAE, Temple, Arizona. The notice was published in the Federal Register September 22, 2009 (74 FR 48303).

At the request of a petitioner and the company, the Department reviewed the certification for workers of the subject firm. The workers are engaged in manufacturing of embedded computer products.

The company reports that on-site leased workers from Victory Personnel Services, Coretek, SDI and Collins were employed on-site at the Tempe, Arizona location of Emerson Network Power, Embedded Computing. The Department has determined that these workers were sufficiently under the control of the subject firm to be considered leased workers.

Based on these findings, the Department is amending this certification to include workers leased from Victory Personnel Services, Coretek, SDI, and Collins working on-site at the Tempe, Arizona location of the subject firm.

The amended notice applicable to TA-W-70,066 is hereby issued as follows:

All workers of Emerson Network Power, Embedded Computing, including on-site leased workers from Manpower, QTI, ACAE, Victory Personnel Services, Coretek, SDI and Collins, Tempe, Arizona, who became totally or partially separated from employment on or after May 18, 2008, through August 5, 2011, and all workers in the group threatened with total or partial separation from employment on date of certification through two years from the date of certification, are eligible to apply for adjustment assistance under Chapter 2 of Title II of the Trade Act of 1974, as amended.

Signed at Washington, DC, this 8th day of October 2009.
Elliott S. Kushner,
Certifying Officer, Division of Trade Adjustment Assistance.

[FR Doc. E9-25161 Filed 10-19-09; 8:45 am]

BILLING CODE 4510-FN-P